DEPARTMENT OF COMMERCE

National Oceanic and Atmospheric Administration

Draft Guidance for the Coastal and Estuarine Land Conservation

AGENCY: Office of Ocean and Coastal Resource Management, National Ocean Service, National Oceanic and Atmospheric Administration (NOAA).

ACTION: Notice of availability of draft guidance for the Coastal and Estuarine Land Conservation Program.

SUMMARY: Notice is hereby given of the availability of Draft Guidance for the Coastal and Estuarine Land Conservation Program (CELCP), created by the FY 2002 appropriations for the Departments of Commerce, Justice, and State. The Appropriations Act directed the Secretary of Commerce to establish a Coastal and Estuarine Land Conservation Program “for the purpose of protecting important coastal and estuarine areas that have significant conservation, recreation, ecological, historical, or aesthetic values, or that are threatened by conversion from their natural or recreational state to other uses,” giving priority to lands which can be effectively managed and protected and which have significant ecological value. The law further directed the Secretary to issue guidelines for this program delineating the criteria for grant awards and to distribute funds in consultation with the States' Coastal Zone Managers' or Governors' designated representatives based on demonstrated need and ability to successfully leverage funds. Draft Guidance for the CELCP can be found on NOAA's website at: www.ocrm.nos.noaa.gov/landconversation.html or may be obtained upon request via the contact information listed below. Comments may be directed to NOAA via letter, e-mail, or fax at (301) 713-4012.

DATES: Comments are requested by November 21, 2002.

FOR FURTHER INFORMATION CONTACT: Elaine Vaudreuil, Office of Ocean and Coastal Resource Management (N/ORM), NOAA's National Ocean Service, 1305 East-West Highway, Silver Spring, MD 20910; telephone (301) 713-3155, extension 103; or via e-mail at Elaine.Vaudreuil@noaa.gov.

(Federal Domestic Assistance Catalog 11.419 Coastal Zone Management Program Administration)
Dated: October 7, 2002.
Jamison S. Hawkins,
Deputy Assistant Administrator for Ocean Services and Coastal Zone Management.

[FR Doc. 02-26996 Filed 10-21-02; 8:45 am]

BILLING CODE 3510-08-M